NATIONAL AERONAUTICS AND SPACE ADMINISTRATION

[Notice (14-010)]

Performance Review Board, Senior Executive Service (SES)

AGENCY: National Aeronautics and Space Administration (NASA).

ACTION: Notice of Membership of SES Performance Review Board.

SUMMARY: The Civil Service Reform Act of 1978, Public Law 95-454 (Section 405) requires that appointments of individual members to the Performance Review Board (PRB) be published in the Federal Register.

The performance review function for the SES in NASA is being performed by the NASA PRB and the NASA Senior Executive Committee. The latter performs this function for senior executives who report directly to the Administrator or the Deputy Administrator and members of the PRB. The following individuals are serving on the Board and the Committee:

Performance Review Board

Chairperson, Chief of Staff, NASA Headquarters

Executive Secretary, Director, Workforce Management and Development Division, NASA Headquarters

Associate Administrator, NASA Headquarters

Associate Deputy Administrator, NASA Headquarters

Associate Administrator for Human Exploration and Operations Directorate, NASA Headquarters

Associate Administrator for Science Mission Directorate, NASA Headquarters

Associate Administrator for Aeronautics Research Mission Directorate, NASA Headquarters

Associate Administrator for Space Technology Mission Directorate, NASA Headquarters

Associate Administrator for Mission Support Directorate, NASA Headquarters

Associate Administrator for Communications, NASA Headquarters

Associate Administrator for Diversity and Equal Opportunity, NASA Headquarters

Associate Administrator for Education, NASA Headquarters

Associate Administrator for International and Interagency Relations, NASA Headquarters

Associate Administrator for Legislative and Intergovernmental Affairs, NASA Headquarters

Assistant Administrator for Human Capital Management, NASA Headquarters

Chief Financial Officer, NASA Headquarters

Chief Information Officer, NASA Headquarters

Chief Engineer, NASA Headquarters

Chief, Safety and Mission Assurance, NASA Headquarters

Chief Technologist, NASA Headquarters

Chief Scientist, NASA Headquarters

General Counsel, NASA Headquarters

Director, Ames Research Center

Director, Dryden Flight Research Center

Director, Glenn Research Center

Director, Goddard Space Flight Center

Director, Johnson Space Center

Director, Kennedy Space Center

Director, Langley Research Center

Director, Marshall Space Flight Center

Director, Stennis Space Center

Senior Executive Committee

Chairperson, Deputy Administrator, NASA Headquarters

Chair, Executive Resources Board, NASA Headquarters

Chair, NASA Performance Review Board, NASA Headquarters

Associate Administrator, NASA Headquarters

Associate Deputy Administrator, NASA Headquarters

Associate Administrator for Diversity and Equal Opportunity, NASA Headquarters

Charles F. Bolden, Jr.,
Administrator.

[FR Doc. 2014-02095 Filed 1-31-14; 8:45 am]

BILLING CODE 7510-13-P